DEPARTMENT OF LABOR

Employment and Training Administration

[TA-W-70,028]

Three Rivers Timber, Inc.; Kamiah, ID; Notice of Revised Determination on Reconsideration

By application dated September 15, 2009, a company official requested administrative reconsideration of the Department's negative determination regarding eligibility for workers and former workers of the subject firm to apply for Trade Adjustment Assistance (TAA).

The initial investigation resulted in a negative determination signed on September 4, 2009, was based on the finding that imports of softwood lumber did not contribute importantly to worker separations at the subject firm and there was no shift in production of softwood lumber from the subject firm abroad. The denial notice will soon be published in the Federal Register.

In the request for reconsideration, the petitioner requested the Department of Labor conduct further analysis of the data reported by the customers of the subject firm and imports that are like or directly competitive with softwood lumber.

The Department further reviewed responses of a sample customer survey conducted during the initial investigation. On further analysis, it has been determined that the survey revealed that customers increased their reliance on imported softwood lumber, while decreasing their purchases from the subject firm from 2007 to 2008.

The investigation also revealed that employment, sales and production at Three Rivers Timber, Inc., Kamiah, Idaho declined absolutely during the relevant period.

Furthermore, it was determined that increased reliance on imports of softwood lumber by the customers of the subject firm contributed importantly to the worker group separation and sales/production declines at Three Rivers Timber, Inc. in Kamiah, Idaho.

Conclusion

After careful review of the additional facts obtained on reconsideration, I determine that workers of Three Rivers Timber, Inc., Kamiah, Idaho, who are engaged in activities related to the production of softwood lumber meet the worker group certification criteria under Section 222(a) of the Act, 19 U.S.C. 2272(a). In accordance with Section 223 of the Act, 19. U.S.C. 2273, I make the following certification:

All workers of Three Rivers Timber, Inc., Kamiah, Idaho, who became totally or partially separated from employment on or after May 18, 2008, through two years from the date of this certification, and all workers in the group threatened with total or partial separation from employment on date of certification through two years from the date of certification, are eligible to apply for adjustment assistance under Chapter 2 of Title II of the Trade Act of 1974, as amended.

Signed in Washington, DC, this 7th day of October 2009.
Elliott S. Kushner,
Certifying Officer, Division of Trade Adjustment Assistance.

[FR Doc. E9-25150 Filed 10-19-09; 8:45 am]

BILLING CODE 4510-FN-P